SMALL BUSINESS ADMINISTRATION

[Declaration of Disaster #3624]

State of Alabama

As a result of the President's major disaster declaration on September 15, 2004, I find that Baldwin, Butler, Clarke, Coffee, Conecuh, Covington, Crenshaw, Escambia, Geneva, Mobile, Monroe and Washington Counties in the State of Alabama constitute a disaster area due to damages caused by Hurricane Ivan occurring on September 13, 2004, and continuing. Applications for loans for physical damage as a result of this disaster may be filed until the close of business on November 15, 2004, and for economic injury until the close of business on June 15, 2005, at the address listed below or other locally announced locations: U.S. Small Business Administration, Disaster Area 2 Office, One Baltimore Place, Suite 300, Atlanta, GA 30308.

In addition, applications for economic injury loans from small businesses located in the following contiguous counties may be filed until the specified date at the above location: Choctaw, Dale, Houston, Lowndes, Marengo, Montgomery, Pike and Wilcox in the State of Alabama; Escambia, Holmes, Jackson, Okaloosa, Santa Rosa and Walton Counties in the State of Florida; and George, Greene, Jackson and Wayne Counties in the State of Mississippi.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 362408. For economic injury the number is 9ZW300 for Alabama; 9ZW400 for Florida; and 9ZW500 for Mississippi.

(Catalog of Federal Domestic Assistance Program Nos. 59002 and 59008).

Dated: September 20, 2004.
Herbert L. Mitchell,
Associate Administrator for Disaster Assistance.

[FR Doc. 04-21898 Filed 9-29-04; 8:45 am]

BILLING CODE 8025-01-P